ENVIRONMENTAL PROTECTION AGENCY

[FRL-9179-3 ]

Clean Water Act Section 303(d): Final Agency Action on One Arkansas Total Maximum Daily Load (TMDL)

AGENCY: Environmental Protection Agency (EPA).

ACTION: Notice of availability.

SUMMARY: This notice announces the final agency action on one TMDL established by EPA Region 6 for waters listed in the State of Arkansas, under section 303(d) of the Clean Water Act (CWA). This TMDL was completed in response to the lawsuit styled Sierra Club, et al. v. Clifford, et al., No. LR-C-99-114. Documents from the administrative record file for the final one TMDL, including TMDL calculations may be viewed at http://www.epa.gov/region6/water/npdes/tmdl/index.htm.

FOR FURTHER INFORMATION CONTACT: Diane Smith at (214) 665-2145.

EPA Takes Final Agency Action on One TMDL

By this notice EPA is taking final agency action on the following TMDL for waters located within the State of Arkansas:

Segment-reach | Waterbody name | Pollutant
11070208-901 | Town Branch | Total Phosphorus.

EPA requested the public to provide EPA with any significant data or information that might impact the TMDL at Federal Register Notice: Volume 75, Number 74, pages 20351 and 20352 (April 19, 2010). Comments were received, and the EPA's response to comments and the Final TMDL may be found at http://www.epa.gov/region6/water/npdes/tmdl/index.htm.

Dated: July 15, 2010.
Claudia V. Hosch,
Acting Director, Water Quality Protection Division, EPA Region 6.

[FR Doc. 2010-18090 Filed 7-22-10; 8:45 am]

BILLING CODE 6560-50-P